DEPARTMENT OF HEALTH AND HUMAN SERVICES

Agency for Healthcare Research and Quality

Solicitation for Nominations for Members of the U.S. Preventive Services Task Force (USPSTF)

Correction

In notice document E9-8040 beginning on page 16408 in the issue of Friday, April 10, 2009, make the following corrections:

1. On page 16409, in the first column, in the fifth line from the top, “indMduals” should read “individuals”.

2. On the same page, in the ADDRESSES section, in the eighth and ninth lines, “http://dreamless.keenspot.com/comic.rss” should read “uspstaskforce@ahrq.hhs.gov”.

3. On the same page, in the FOR FURTHER INFORMATION CONTACT section, in the second line, “uspstaskforce@ahrg.hhs.gov” should read “uspstaskforce@ahrq.hhs.gov”.

4. On the same page, in the last full paragraph, in the second line from the bottom, “http://preventiveservices.ahrg.gov” should read “http://preventiveservices.ahrq.gov”.

[FR Doc. Z9-8040 Filed 4-16-09; 8:45 am]

BILLING CODE 1505-01-D